DEPARTMENT OF COMMERCE

National Oceanic and Atmospheric Administration

RIN 0648-XD953

Marine Mammals; File No. 19108

AGENCY: National Marine Fisheries Service (NMFS), National Oceanic and Atmospheric Administration (NOAA), Commerce.

ACTION: Notice; receipt of application for permit amendment.

SUMMARY: Notice is hereby given that Daniel P. Costa, Ph.D., University of California at Santa Cruz, Long Marine Laboratory, 100 Shaffer Road, Santa Cruz, CA 95064, has applied for an amendment to Scientific Research Permit No. 19108-03.

DATES: Written, telefaxed, or email comments must be received on or before May 6, 2019.

ADDRESSES: The application and related documents are available for review by selecting “Records Open for Public Comment” from the “Features” box on the Applications and Permits for Protected Species home page, https://apps.nmfs.noaa.gov, and then selecting “File No. 19108” from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Shasta McClenahan, (301) 427-8401.

SUPPLEMENTARY INFORMATION: The subject amendment to Permit No. 19108-03 is requested under the authority of the Marine Mammal Protection Act of 1972, as amended (16 U.S.C. 1361 et seq.) and the regulations governing the taking and importing of marine mammals (50 CFR part 216).

Permit No. 19108, issued on June 30, 2015 (80 FR 39750), authorizes the permit holder to conduct research on northern elephant seal population status, reproduction, diving and fasting, physiology, and metabolism. Research methods include behavioral observations, marking, capture and sampling, instrumentation, translocation, short-term captive holding, physiology studies, and acoustic studies. Research is permitted from California to Washington, but occurs primarily at Año Nuevo. Incidental harassment and mortalities of northern elephant seals, and incidental harassment of California sea lions (Zalophus californianus), northern fur seals (Callorhinus ursinus), and Steller sea lions (Eumetopias jubatus) of the Eastern Distinct Population Segment is authorized.

The permit holder is requesting the permit be amended to include authorization for an increase in annual take from 10 to 20 animals for elephant seals that can be instrumented and translocated and receive thermistor placement annually. This annual increase would allow all of the translocations in this category to be conducted during the spring molt, which further ensures that animals are able to be recaptured for instrument removal. The applicant also requests permission to use an intravascular electrocardiogram within existing catheter placement (20 animals annually). The applicant is authorized to experimentally alter the buoyancy of seals during translocations, including use of a neutral buoyancy control that alters the drag surface of the animal. The applicant requests to explicitly modify drag outside of the context of a buoyancy modification experiments and to add additional drag surface to subjects on one of the two translocations allowed per individual elephant seal to assess the impact of increased swimming effort on blood oxygen utilization (20 animals annually). The applicant also requests to add a head-mounted instrument for electroencephalography on translocated animals to give insight into the potential use of bihemispheric or unihemispheric sleep and the level of brain oxygenation during diving. The instrument uses near-infrared spectroscopy sensors or up to six electrodes (20 animals annually).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: April 1, 2019.
Amy Sloan,
Deputy Chief, Permits and Conservation Division, Office of Protected Resources, National Marine Fisheries Service.

[FR Doc. 2019-06628 Filed 4-4-19; 8:45 am]

BILLING CODE 3510-22-P